DEPARTMENT OF COMMERCE

National Oceanic and Atmospheric Administration

50 CFR. Parts 223, and 226

[Docket no. 020603139-2139-01 I.D. 052302A]

Listing Endangered and Threatened Species: Finding on Petition to Delist Coho Salmon in the Klamath River Basin; Reopening of Public Comment Period

AGENCY: National Marine Fisheries Service (NMFS), National Oceanic and Atmospheric Administration (NOAA), Commerce.

ACTION: Notice of finding; re-opening of public comment period.

SUMMARY: The National Marine Fisheries Service (NMFS) has received a petition to delist coho salmon (Oncorhynchus kisutch) in the Klamath River Basin (California and Oregon). Coho populations in the Klamath River Basin are part of the Southern Oregon/Northern California Coasts (SONCC) Evolutionarily Significant Unit (ESU), which is listed as a threatened species under the Endangered Species Act of 1973, as amended (ESA). The petition fails to present substantial scientific or commercial information to suggest that delisting may be warranted. On February 11, 2002, NMFS published a notice in the Federal Register on the findings on 6 delisting petitions and status reviews of 25 ESUs of Pacific salmon and steelhead, including the SONCC coho salmon ESU. Based on input received thus far, NMFS is reopening the comment period and seeking additional information on the status of the 25 ESUs under review.

DATES: Written comments on the previous February 11, 2002, findings on 6 delisting petitions and on the status review updates for 25 ESUs of Pacific salmon and steelhead (67 FR 6215), must be received by August 12, 2002.

ADDRESSES: Information or comments on this action should be submitted to the Assistant Regional Administrator, Protected Resources Division, NMFS, 525 NE Oregon Street, Suite 500, Portland, OR, 97232-2737. Comments will not be accepted if submitted via e-mail or the Internet. However, comments may be sent via facsimile to (503) 230-5435.

FOR FURTHER INFORMATION CONTACT: Garth Griffin, NMFS, Northwest Region, (503) 231-2005; Craig Wingert, NMFS, Southwest Region, (562) 980-4021; or Chris Mobley, NMFS, Office of Protected Resources, (301) 713-1401. Additional information, including the references used and the petitions addressed in this notice, is available on the Internet at www.nwr.noaa.gov.

SUPPLEMENTARY INFORMATION:

Background

Delisting Factors and Basis for Determination

Section 4(b)(3)(A) of the Endangered Species Act of 1973, as amended, 16 U.S.C. 1531 et seq. (ESA) requires that, to the maximum extent practicable, within 90 days after receiving a petition for delisting species, the Secretary make a finding whether the petition presents substantial scientific information indicating that the petitioned action may be warranted. The ESA implementing regulations for the National Marine Fisheries Service (NMFS) define “substantial information” as the amount of information that would lead a reasonable person to believe that the measure proposed in the petition may be warranted (50 CFR 424.14(b)(1)). In evaluating a petitioned action, the Secretary must consider whether such a petition (1) clearly indicates the recommended administrative measure and the species involved, (2) contains a detailed narrative justification for the recommended measure, describing past and present numbers and distribution of the species involved and any threats faced by the species, (3) provides information regarding the status of the species over all or a significant portion of its range, and (4) is accompanied by appropriate supporting documentation (50 CFR 424.14(b)(2)).

Section 424.11(d) contains provisions concerning petitions from interested persons requesting the Secretary to delist or reclassify a species listed under the ESA. A species may be delisted for one or more of the following reasons: the species is extinct or has been extirpated from its previous range; the species has recovered and is no longer endangered or threatened; or investigations show that the best scientific or commercial data available when the species was listed or that the interpretation of such data were in error.

Salmonid Evolutionarily Significant Units

NMFS is responsible for determining whether a species, subspecies, or distinct population segment (DPS) of Pacific salmon and steelhead (Oncorhychusspp.) is threatened or endangered species under the ESA. NMFS has determined that DPSs are represented by ESUs of Pacific salmon and steelhead and treats ESUs as a “species” under the ESA (56 FR 58612, November 20, 1991). To date, NMFS has completed comprehensive coastwide status reviews of Pacific salmonids and identified 51 ESUs in California, Oregon, Washington, and Idaho. Five of these ESUs are currently listed under the ESA as endangered, and 21 ESUs are listed as threatened.

Petition Received

On March 18, 2002, NMFS received a petition from the California State Grange (Grange petition) to delist coho salmon in Siskiyou County, California. These fish are part of a larger ESU of SONCC coho salmon. The SONCC coho ESU was listed as a threatened species on May 6, 1997 (62 FR 24588). This ESU includes all naturally spawned populations of coho salmon in coastal streams between Cape Blanco, Oregon, and Punta Gorda, California. NMFS has recently committed to update the status of 25 ESUs of Pacific salmon and steelhead, including the SONNC coho ESU (67 FR 6215 February 11, 2002).

The Grange petition is a duplicate of a petition received by NMFS on September 19, 2001, from the Interactive Citizens United (ICU). NMFS rejected the ICU petition in a notice published in the Federal Registeron February 11, 2002 (67 FR 6215), finding that the petition failed to present substantial scientific or commercial information to suggest that delisting may be warranted.

Petition Finding

The Grange petition seeks delisting of a portion of the threatened SONCC coho salmon ESU (i.e., fish in Siskiyou County), an action not enabled by the ESA. NMFS having determined that DPSs are represented by ESUs of Pacific salmon and steelhead, treats ESUs as species under the ESA (56 FR 58612, November 20, 1991). The ESA authorizes the listing, delisting, or reclassification of a species, subspecies, or DPS, as defined under the Act (50 CFR 424.02(k)). However, the ESA does not authorize the delisting of one subset or portion of a listed species/subspecies/DPS (50 CFR 424.11(d)). The petition lacks a coherent narrative detailing the justification for the recommended measure. Additionally, it does not present substantial scientific or commercial information that the SONCC ESU is recovered, extinct, or that the data or the interpretation in the original listing determination were in error. Furthermore, the Grange petition does not provide status data for the listed ESU over all or a significant portion of its range, hence the data provided are not instructive in the context of the ESU’s status as a whole. The data provided in the petition are restricted to the Iron Gate Hatchery population, a population which is not part of the listed ESU (62 FR 24588 May 6, 1997). Therefore, NMFS determines that the petition does not present substantial scientific or commercial information to indicate that the petitioned action may be warranted based on the criteria specified in 424.11(d) and 424.14(b)(2).

Re-opening of Comment Period

Several comments and requests have been received to extend the comment period for the February 11, 2002, petition findings (67 FR 6215) and the associated status review updates for 25 Pacific salmon and steelhead ESUs. The comment period closed on April 12, 2002. Accordingly, NMFS is re-opening the comment period for 60 days to allow adequate opportunity for public comment (see DATES and ADDRESSES). NMFS is seeking information, comments, and/or data concerning the petition findings or the status review updates. The following are the 25 ESUs for which NMFS is conducting status review updates: Ozette lake sockeye (O. nerka) ESU; Sacramento River winter-run, Snake River spring/summer, Snake River fall, Puget Sound, Upper Willamette River, Lower Columbia River, Upper Columbia River spring-run, Central Valley spring-run, and California Coastal chinook (O. tshawytscha) ESUs; Central California Coast, Southern Oregon/Northern California Coasts, Oregon Coast, and Lower Columbia/Southwest Washington coho ESUs; Hood Canal summer-run, and Columbia River chum (O. keta) ESUs; and South-Central California, Central California Coast, Upper Columbia River, Snake River Basin, Lower Columbia River, California Central Valley, Upper Willamette River, Middle Columbia River, and Northern California steelhead (O. mykiss) ESUs. NMFS is soliciting such pertinent information on naturally spawned and hatchery populations within these ESUs as data on population abundance, recruitment, productivity, escapement, and reproductive success (e.g. spawner-recruit or spawner-spawner survivorship, smolt production estimates, fecundity, and ocean survival rates); historical and present data on hatchery fish releases, outmigration, survivorship, returns, straying rates, replacement rates, and reproductive success in the wild; data on age structure and migration patterns of juveniles and adults; meristic, morphometric, and genetic studies; and spatial or temporal trends in the quality and quantity of freshwater, estuarine, and marine habitats. NMFS is particularly interested in such information for the period since the most recent status review for a given ESU (see 67 FR 6215, February 11, 2002, for a summary, by ESU, of the last status review conducted and the most recent data used). Status reviews for the majority of the 25 ESUs to be reviewed were conducted in 1997-2000. However, the status of Sacramento River winter-run chinook, and Central California coast coho were last assessed in 1994 and 1995, respectively. Comments submitted during the initial public comment period need not be re-submitted. NMFS will consider all information, comments, and recommendations received during the extended public comment period.

References

The complete citations for the references used in this document can be obtained by contacting NMFS or via the Internet (see ADDRESSES and FOR FURTHER INFORMATION CONTACT).

Authority: 16 U.S.C. 1531 et seq.

Dated: June 7, 2002.
William T. Hogarth,
Assistant Administrator for Fisheries, National Marine Fisheries Service.

[FR Doc. 02-14959 Filed 6-12-02; 8:45 am]

BILLING CODE 3510-22-S